DEPARTMENT OF HOUSING AND URBAN DEVELOPMENT

[Docket No. FR-4630-FA-05 ]

Announcement of Funding Awards for Fiscal Year 2001; Hispanic-serving Institutions Assisting Communities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2001 Hispanic-serving Institutions Assisting Communities Program. The purpose of this document is to announce the names and addresses of the award winners and the amount of the awards which are to be used to help Hispanic-serving Institutions of Higher Education expand their role and effectiveness in addressing community development needs in their localities, consistent with the purposes of HUD's Community Development Block Grant program (CDBG) .

FOR FURTHER INFORMATION CONTACT: Barbara Holland, Office of University Partnerships, U.S. Department of Housing and Urban Development, Room 8106, 451 Seventh Street, SW., Washington, DC 20410, telephone (202) 708-3061. To provide service for persons who are hearing-or-speech-impaired, this number may be reached via TTY by Dialing the Federal Information Relay Service on 1-800-877-TTY, 1-800-877-8339, or 202-708-1455. (Telephone number, other than “800” TTY numbers are not toll free.)

SUPPLEMENTARY INFORMATION: The Hispanic-serving Institutions Assisting Communities Program (HSIAC) was enacted under section 107 of the CDBG appropriation for fiscal year 2001, as part of the “Veterans Administration, HUD and Independent Agencies Appropriations Act of 2001” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Hispanic-serving Institutions Assisting Communities Program provides funds for a wide range of CDBG-eligible activities including housing rehabilitation and financing, property demolition or acquisition, public facilities, economic development, business entrepreneurship, and fair housing programs. On February 26, 2001 (66 FR 11769), HUD published a Notice of Funding Availability (NOFA) announcing the availability of $6.5 million in Fiscal Year 2001 funds for the Hispanic-serving Institutions Assisting Communities Program. The Department reviewed, evaluated and scored the applications received based on the criteria in the NOFA. As a result, HUD 13 applications were funded. These grants, with their grant amounts are identified below.

The Catalog Federal Domestic Assistance number for this program is 14.514.

In accordance with section 102(a)(4)(C) of the Department of Housing and Urban Development Reform Act of 1989 (103 Stat. 1987, U.S.C. 3545), the Department is publishing details concerning the recipients of funding awards, as follows:

List of Awardees for Grant Assistance Under the FY 2001 Hispanic-serving Institutions Assisting Communities Program Funding Competition, by Name and Address

New York/New Jersey

1. Bronx Community College, Dr. Carin Savage, Bronx Community College, University Avenue and west 181st Street, Bronx, NY 10453. Grant: $400,000.

2. Lehman College, Eleanor Lunden, Lehnman College, 250 Bedford Park Blvd. West, Bronx, NY 10468. Grant: $210,952.

Southeast/Caribbean

3. University of Miami, Dr. Elizabeth Plater-Zyber, University of Miami, 1223 Dickinson Drive, Coral Gables, FL 33146. Grant: $399,995.

4. Miami-Dade Community College, InterAmerican Campus, Dr. David Rafky, Miami-Dade Community College, InterAmerican Campus, 627 SW 27th Avenue, Miami, FL 33135. Grant: $288,908.

Southwest

5. Del Mar College, Linda Ard, Del Mar College, 101 Baldwin, Corpus Christi, TX 78404. Grant: $400,000.

6. San Jacinto College North, Dr. Granville Sydnor, San Jacinto College North, 5800 Uvalde, Houston, TX 77504. Grant: $399,890.

7. Southwest Texas Junior College, Dr. Blaine Bennett, Southwest Texas Junior College, 2401 Garner Road, Uvalde, TX 78801. Grant: $400,000.

8. Texas A&M International University, Dr. J. Michael Patrick, Texas A&M International University, 5201 Laredo Blvd., Laredo, TX 78041. Grant: $150,479.

9. University of the Incarnate Word, Dr. John Velasquez, University of the Incarnate Word, 3721 S. Press Street, San Antonio, TX 78201. Grant: $399,948.

Pacific/Hawaii

10. Cochise College, Chuck Hoyak, Cochise College, 4190 West Highway 80, Douglas, AZ 85607. Grant: 319,290.

11. Los Angeles Mission College, Edgardo Zayas, Los Angeles Mission College, 13356 Eldridge Avenue, Sylmar, CA 91342. Grant: $400,000.

12. Los Angeles Trade-Technical College, Dr. Denise Fairchild, Los Angeles Trade-Technical College, 400 W. Washington Blvd., Los Angeles, CA 90015. Grant: $400,000.

Northwest/Alaska

13. Yakima Valley Community College, Dan Groves, Yakima Valley Community College, P.O. Box 22520, Yakima, WA 98907. Grant: $397,766.

Dated: November 8, 2001.
Lawrence L. Thompson,
General Deputy Assistant Secretary for Policy Development and Research.

[FR Doc. 01-28776 Filed 11-16-01; 8:45 am]

BILLING CODE 4210-62-P